DEPARTMENT OF LABOR

Office of the Secretary

Agency Information Collection Activities; Submission for OMB Review; Comment Request; Occupational Safety and Health State Plans

ACTION: Notice.

SUMMARY: The Department of Labor (DOL) is submitting the Occupational Safety and Health Administration (OSHA) sponsored information collection request (ICR) titled, “Occupational Safety and Health State Plans,” to the Office of Management and Budget (OMB) for review and approval for continued use in accordance with the Paperwork Reduction Act (PRA) of 1995 (44 U.S.C. 3501 et seq.).

DATES: Submit comments on or before May 4, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an email to DOL_PRA_PUBLIC@dol.gov.

Submit comments about this request to the Office of Information and Regulatory Affairs, Attn: OMB Desk Officer for DOL-OSHA, Office of Management and Budget, Room 10235, Washington, DC 20503, Telephone: 202-395-6929/Fax: 202-395-6881 (these are not toll-free numbers), email: OIRA_submission@omb.eop.gov.

FOR FURTHER INFORMATION CONTACT: Contact Michel Smyth by telephone at 202-693-4129 (this is not a toll-free number) or by email at DOL_PRA_PUBLIC@dol.gov.

SUPPLEMENTARY INFORMATION: Occupational Safety and Health Act of 1970 (the Act) section 18 encourages States to assume responsibility for the development and enforcement of State occupational safety and health standards through the mechanism of an approved State plan. Absent a plan approved by the OSHA, States are preempted from asserting enforcement jurisdiction over any occupational safety and health issue with respect to which a Federal standard has been promulgated. Section 18 establishes the basic criteria for State plan approval; provides for the discretionary exercise of concurrent Federal enforcement jurisdiction after initial plan approval until such time as the State has demonstrated that it is meeting the approval criteria in actual operation (final State Plan approval), at which point Federal enforcement jurisdiction may be relinquished; provides that State standards and enforcement must be, and continue to be, at least as effective as the Federal program including any changes thereto; and requires OSHA to make a continuing evaluation of the manner in which the State is implementing its program and to take action to withdraw plan approval should there be a failure to substantially comply with any provision of the State plan. States choosing to operate OSHA-approved State plans must provide information to document their programs are at least as effective as the Federal OSHA program. In order to obtain and maintain State Plan approval, a State must submit various documents to OSHA describing its program structure and operation, including any modifications thereto as they occur, in accordance with the identified regulations.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6. The DOL obtains OMB approval for this information collection under OMB Control Number 1218-0247. The current OMB approval is scheduled to expire on March 31, 2012; however, it should be noted that existing information collection requirements submitted to the OMB receive a month-to-month extension while they undergo review. For additional information, see the related notice published in the Federal Register on November 28, 2012 (76 FR 72980).

Interested parties are encouraged to send comments to the OMB, Office of Information and Regulatory Affairs at the address shown in the ADDRESSES section within 30 days of publication of this notice in the Federal Register. In order to help ensure appropriate consideration, comments should reference OMB Control Number 1218-0247. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OSHA.

Title of Collection: Occupational Safety and Health State Plans.

OMB Control Number: 1218-0247.

Affected Public: State, Local, and Tribal Governments.

Total Estimated Number of Respondents: 28.

Total Estimated Number of Responses: 1,264.

Total Estimated Annual Burden Hours: 11,196.

Total Estimated Annual Other Costs Burden: $0.

Dated: March 23, 2012.
Michel Smyth,
Departmental Clearance Officer.

[FR Doc. 2012-8082 Filed 4-3-12; 8:45 am]

BILLING CODE 4510-26-P